FEDERAL COMMUNICATIONS COMMISSION

47 CFR Part 73

[DA 10-2236; MB Docket No. 10-108]

Radio Broadcasting Services: Pacific Junction, IA

AGENCY: Federal Communications Commission.

ACTION: Final rule.

SUMMARY: The staff deletes FM Channel 299C2 at Pacific Junction, Iowa, because the record in this proceeding reveals that there is no site to activate this allotment that would meet Federal Aviation Administration criteria regarding electromagnetic interference to instrument landing system configurations and the Commission's spacing requirements Further, there are no other FM channels that could be substituted for Channel 299C2 at Pacific Junction and no alternate FAA frequencies to remedy this problem.

DATES: Effective January 7, 2011.

FOR FURTHER INFORMATION CONTACT: Andrew J. Rhodes, Media Bureau, (202) 418-2180.

SUPPLEMENTARY INFORMATION: This is a synopsis of the Commission's Report and Order, MB Docket No. 10-108, adopted November 22, 2010, and released November 24, 2010. The full text of this Report and Order is available for inspection and copying during normal business hours in the FCC Reference Information Center (Room CY-A257), 445 12th Street, SW., Washington, DC 20554. The complete text of this decision may also be purchased from the Commission's copy contractor, Best Copy and Printing, Inc., Portals II, 445 12th Street, SW., Room CY-B402, Washington, DC 20554, telephone 1-800-378-3160 or http://www.BCPIWEB.com.

On the Commission's own motion, the Notice of Proposed Rulemaking in this proceeding solicited comment on deleting the Pacific Junction allotment due to difficulties encountered by Connoisseur Media LLC, the permittee of Station KGGG(FM), Channel 299C2, Pacific Junction, in overcoming objections raised by the FAA to the activation of this allotment. See 75 FR 30756 (June 2, 2010). No parties filed comments expressing an interest in retaining this allotment or suggested a site that would be technically feasible and meet FAA criteria. Accordingly, the allotment was deleted. In addition, Connoisseur's construction permit (File No. BNPH-20041228AAI, as modified by BMPH-20061019AAM) was cancelled and the KGGG(FM) call sign was deleted.

Although the Notice of Proposed Rulemaking proposed the deletion of Channel 299C2, Pacific Junction, Iowa, from Section 73.202(b), the FM Table of Allotments, the channel is no longer listed in Section 73.202(b) due to its authorization and is included instead in the Media Bureau's Consolidated Data Base System (“CDBS”) as a reserved assignment for Station KGGG(FM). Accordingly, the staff deleted Channel 299C2 from the Media Bureau's CDBS instead of from Section 73.202(b).

The Report and Order does not contain proposed information collection requirements subject to the Paperwork Reduction Act of 1995, Public Law 104-13. In addition, therefore, it does not contain any proposed information collection burden “for small business concerns with fewer than 25 employees,” pursuant to the Small Business Paperwork Relief Act of 2002, Public Law 107-198, see 44 U.S.C. 3506(c)(4). The Commission will send a copy of the Report and Order in this proceeding in a report to be sent to Congress and the Government Accountability Office pursuant to the Congressional Review Act, see 5 U.S.C. 801(a)(1)(A).

Federal Communications Commission.
John A. Karousos,
Assistant Chief, Audio Division, Media Bureau.

[FR Doc. 2010-30856 Filed 12-7-10; 8:45 am]

BILLING CODE 6712-01-P